DEPARTMENT OF AGRICULTURE

Animal and Plant Health Inspection Service

[Docket No. APHIS-2018-0037]

Addition of China to the List of Regions Affected by African Swine Fever

AGENCY: Animal and Plant Health Inspection Service, USDA.

ACTION: Notice.

SUMMARY: We are advising the public that we have added China to the list of regions that the Animal and Plant Health Inspection Service considers to be affected with African swine fever (ASF). We are taking this action because of the confirmation of ASF in China.

DATES: China was added to the APHIS list of regions considered affected with ASF on August 6, 2018.

FOR FURTHER INFORMATION CONTACT: Dr. Joyce Bowling-Heyward, DVM, National Director, Regionalization Evaluation Services, Strategy and Policy, VS, APHIS, USDA, 4700 River Road Unit 39, Riverdale, MD 20737; (301) 851-3350.

SUPPLEMENTARY INFORMATION: The regulations in 9 CFR part 94 (referred to below as the regulations) govern the importation of specified animals and animal products to prevent the introduction into the United States of various animal diseases, including foot-and-mouth disease, bovine spongiform encephalopathy, swine vesicular disease, classical swine fever, and African swine fever (ASF). These are dangerous and destructive diseases of ruminants and swine.

Sections 94.8 and 94.17 of the regulations contain requirements governing the importation into the United States of pork and pork products from regions of the world where ASF exists or is reasonably believed to exist and imposes restrictions on the importation of pork and pork products into the United States from those regions. ASF is a highly contagious disease of wild and domestic swine that can spread rapidly in swine populations with extremely high rates of morbidity and mortality. A list of regions where ASF exists or is reasonably believed to exist is maintained on the Animal and Plant Health Inspection Service (APHIS) website at https://www.aphis.usda.gov/aphis/ourfocus/animalhealth/animal-and-animal-product-import-information/animal-health-status-of-regions/.

APHIS receives notice of ASF outbreaks from veterinary officials of the exporting country, from the World Organization for Animal Health (OIE), or from other publically available sources the Administrator determines to be reliable. In a report dated August 6, 2018, the veterinary authorities of China reported to the OIE confirmation of an ASF outbreak.

Although the importation of most swine commodities from China into the United States is already restricted based on that country's classical swine fever, foot-and-mouth disease, and swine vesicular disease status, APHIS has determined that it is necessary to impose ASF-related restrictions on the importation of pork and pork products from China into the United States.

Therefore, in response to this outbreak, APHIS has added China to the list of regions where ASF exists or is reasonably believed to exist. As a result, pork and pork products, including casings, from China are subject to APHIS import restrictions designed to mitigate the risk of ASF introduction into the United States.

Authority: 7 U.S.C. 1633, 7701-7772, 7781-7786, and 8301-8317; 21 U.S.C. 136 and 136a; 31 U.S.C. 9701; 7 CFR 2.22, 2.80, and 371.4.

Done in Washington, DC, this 20th day of March 2019.
Kevin Shea,
Administrator, Animal and Plant Health Inspection Service.

[FR Doc. 2019-05680 Filed 3-25-19; 8:45 am]

BILLING CODE 3410-34-P